DEPARTMENT OF ENERGY

Federal Energy Regulatory Commission

[Project No. 2905-035]

Village of Enosburg Falls, Vermont; Notice of Revised Procedural Schedule for Environmental Assessment for the Proposed Project Relicense

On April 30, 2021, the Village of Enosburg Falls, Vermont (Village) filed a relicense application for the 975-kilowatt Enosburg Falls Hydroelectric Project No. 2905. On August 9, 2022, Commission staff issued a notice of intent to prepare an Environmental Assessment (EA) to evaluate the effects of relicensing the project. The notice included an anticipated schedule for issuing the EA.

By this notice, Commission staff is updating the procedural schedule for completing the EA. The revised schedule is shown below. Further revisions to the schedule may be made as appropriate.

Milestone | Target date
Issue EA | January 2025.

Any questions regarding this notice may be directed to Arash Barsari at (202) 502-6207, or by email at Arash.JalaliBarsari@ferc.gov.

Dated: September 6, 2024.
Debbie-Anne A. Reese,
Acting Secretary.

[FR Doc. 2024-20767 Filed 9-12-24; 8:45 am]

BILLING CODE 6717-01-P